DEPARTMENT OF AGRICULTURE

Food and Nutrition Service

Agency Information Collection Activities: Proposed Collection; Comment Request; Uniform Grant Application Package for Discretionary Grant Programs

AGENCY: Food and Nutrition Service, USDA.

ACTION: Notice and request for comments.

SUMMARY: In accordance with the Paperwork Reduction Act of 1995, the Food and Nutrition Service (FNS) is publishing for public comment a summary of a proposed information collection. The proposed collection is for a uniform grant application package for FNS discretionary grant programs. All FNS discretionary grant programs will be eligible, but not required, to use this uniform grant application package.

DATES: Comments on this notice must be received by October 1, 2001.

ADDRESSES: Send comments and requests for copies of this proposed information collection to Cato L. Watson, Jr., Food and Nutrition Service, USDA, 3101 Park Center Drive, Room 322, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

All comments will be summarized and included in the request for Office of Management and Budget (OMB) approval of the information collection. All comments will become matter of public record.

FOR FURTHER INFORMATION CONTACT: Cato Watson, (703) 305-2242.

SUPPLEMENTARY INFORMATION: Title: Uniform Grant Application Package for FNS Discretionary Grant Programs.

Type of request: New collection of information.

Abstract: FNS has a number of discretionary grant programs. (Consistent with the definition in 7 CFR part 3016, the term “grant” as used in this notice includes cooperative agreements.) The authorities for these grants vary and will be cited as part of each grant application solicitation.

The proposed information collection is for a uniform grant application package usable for all of these grant programs to collect the information from grant applicants needed to evaluate and rank applicants and protect the integrity of the grantee selection process. All FNS discretionary grant programs will be eligible, but not required, to use the uniform grant application package. Before soliciting applications for a discretionary grant program, FNS will decide whether the uniform grant application package will meet the needs for that grant program. If FNS decides to use the uniform grant application package, FNS will note in the grant solicitation that applicants must use the uniform grant application package and that the information collection has already been approved by OMB. If FNS decides not to use the uniform grant application package or determines that it needs grant applicants to provide additional information not contained in the uniform package, then FNS will publish a notice soliciting comments on its proposal to collect different/additional information before making the grant solicitation.

The uniform grant application package will include general information and instructions; a checklist; requirement for the program narrative statement describing how the grant objectives will be reached; the Standard Form (SF) 424 series that requests basic information, budget information and assurances; and certifications. The proposed information collection covered by this notice is that related to the requirements for the program narrative statement. The requirements for the program narrative statement are based on the requirements for program narrative statements described in section 1.c(5) of OMB Circular A-102, and will apply to all types of grantees—State and local governments, non-profit organizations, and for-profit organizations. The information collection burdens related to the SF 424 series and the certifications have been separately approved by OMB.

Respondents: Applicants for FNS discretionary grant programs.

Estimated Number of Respondents: 455.

Estimated Annual Number of Responses per Respondent: 1.

Estimate of Burden: Public reporting burden for this collection of information is estimated to range from 4 hours to 80 hours.

Estimated Total Annual Burden: 23000 hours.

Dated: July 23, 2001.
George A. Bradley,
Acting Administrator, Food and Nutrition Service.

BILLING CODE 3410-30-M

[FR Doc. 01-18978 Filed 7-30-01; 8:45 am]

BILLING CODE 3410-30-C